DEPARTMENT OF AGRICULTURE

Animal and Plant Health Inspection Service

7 CFR Part 301

[Docket No. 05-011-2]

Asian Longhorned Beetle; Removal of Regulated Areas

AGENCY: Animal and Plant Health Inspection Service, USDA.

ACTION: Affirmation of interim rule as final rule.

SUMMARY: We are adopting as a final rule, without change, an interim rule that amended the Asian longhorned beetle regulations by removing portions of Cook and DuPage Counties, IL, from the list of quarantined areas and removing restrictions on the interstate movement of regulated articles from those areas. The interim rule was based on our determination that the Asian longhorned beetle no longer presents a risk of spread from those areas and that the quarantine and restrictions are no longer necessary.

DATES: The interim rule became effective on April 21, 2005.

FOR FURTHER INFORMATION CONTACT: Mr. Michael B. Stefan, Director, Pest Detection and Management Programs, Emergency Programs, PPQ, APHIS, 4700 River Road Unit 134, Riverdale, MD 20737-1231; (301) 734-7338.

SUPPLEMENTARY INFORMATION:

Background

The Asian longhorned beetle (ALB) regulations in 7 CFR 301.51-1 through 301.51-9 (referred to below as the regulations) restrict the interstate movement of regulated articles from quarantined areas to prevent the artificial spread of ALB to noninfested areas of the United States. Portions of Illinois, New Jersey, and New York are designated as quarantined areas. Quarantined areas are listed in § 301.51-3 of the regulations.

In an interim rule effective April 21, 2005, and published in the Federal Register on April 26, 2005 (70 FR 21326-21328, Docket No. 05-011-1), we amended the regulations by removing portions of Cook and DuPage Counties, IL, from the list of quarantined areas. That action, which was based on our determination that the ALB no longer presents a risk of spread from those areas, removed restrictions on the interstate movement of regulated articles from those areas.

Comments on the interim rule were required to be received on or before June 27, 2005. We did not receive any comments. Therefore, for the reasons given in the interim rule, we are adopting the interim rule as a final rule.

This action also affirms the information contained in the interim rule concerning Executive Orders 12866, 12372, and 12988 and the Paperwork Reduction Act.

Further, for this action, the Office of Management and Budget has waived its review under Executive Order 12866.

Regulatory Flexibility Act

This rule affirms an interim rule that amended the regulations by removing portions of Cook and DuPage Counties, IL, from the list of areas quarantined for ALB. We took that action based on our determination that ALB no longer presents a risk of spread from those areas. The interim rule relieved restrictions on the interstate movement of regulated articles from those areas.

The following analysis addresses the economic effects of the interim rule on small entities, as required by the Regulatory Flexibility Act. The small businesses potentially affected by the interim rule are nurseries, arborists, tree removal services, and firewood dealers located within the areas removed from the list of quarantined areas. The actual number of such businesses in those areas is unknown. However, given that the areas removed from quarantine are urban and suburban communities that include residential areas, a cemetery, a forest preserve, and a portion of O'Hare International Airport, we anticipate that the number of such businesses would be small.

Any affected entities located within the areas removed from quarantine stand to benefit from the interim rule, since they are no longer subject to the restrictions in the regulations. However, our experience with the ALB program in Illinois, New York, and New Jersey has shown that the number and value of regulated articles that are, upon inspection, determined to be infested, and therefore denied a certificate or a limited permit for movement, is small. Thus, any benefit for affected entities in the areas removed from quarantine is likely to be minimal, given that the costs associated with the restrictions that have been relieved were themselves minimal.

Under these circumstances, the Administrator of the Animal and Plant Health Inspection Service has determined that this action will not have a significant economic impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 70 FR 21326-21328 on April 26, 2005.

Done in Washington, DC, this 3rd day of August 2005.
Elizabeth E. Gaston,
Acting Administrator, Animal and Plant Health Inspection Service.

[FR Doc. 05-15709 Filed 8-8-05; 8:45 am]

BILLING CODE 3410-34-P